Executive Order 13831 of May 3, 2018

Establishment of a White House Faith and Opportunity Initiative

By the authority vested in me as President by the Constitution and the laws of the United States of America, and to assist faith-based and other organizations in their efforts to strengthen the institutions of civil society and American families and communities, it is hereby ordered as follows:

Section 1. Policy. Faith-based and community organizations have tremendous ability to serve individuals, families, and communities through means that are different from those of government and with capacity that often exceeds that of government. These organizations lift people up, keep families strong, and solve problems at the local level. The executive branch wants faith-based and community organizations, to the fullest opportunity permitted by law, to compete on a level playing field for grants, contracts, programs, and other Federal funding opportunities. The efforts of faith-based and community organizations are essential to revitalizing communities, and the Federal Government welcomes opportunities to partner with such organizations through innovative, measurable, and outcome-driven initiatives.

Sec. 2. Amendments to Executive Orders. (a) Executive Order 13198 of January 29, 2001 (Agency Responsibilities With Respect to Faith-Based and Community Initiatives), Executive Order 13279 of December 12, 2002 (Equal Protection of the Laws for Faith-Based and Community Organizations), as amended by Executive Order 13559 of November 17, 2010 (Fundamental Principles and Policymaking Criteria for Partnerships with Faith-Based and Other Neighborhood Organizations), Executive Order 13280 of December 12, 2002 (Responsibilities of the Department of Agriculture and the Agency for International Development With Respect to Faith-Based and Community Initiatives), Executive Order 13342 of June 1, 2004 (Responsibilities of the Departments of Commerce and Veterans Affairs and the Small Business Administration with Respect to Faith-Based and Community Initiatives), and Executive Order 13397 of March 7, 2006 (Responsibilities of the Department of Homeland Security With Respect to Faith-Based and Community Initiatives), are hereby amended by:

(i) substituting “White House Faith and Opportunity Initiative” for “White House Office of Faith-Based and Community Initiatives” each time it appears in those orders;

(ii) substituting “White House Faith and Opportunity Initiative” for “White House OFBCI” each time it appears in those orders;

(iii) substituting “Centers for Faith and Opportunity Initiatives” for “Centers for Faith-Based and Community Initiatives” each time it appears in those orders; and

(iv) substituting “White House Faith and Opportunity Initiative” for “Office of Faith-Based and Neighborhood Partnerships” each time it appears in those orders.

(b) Executive Order 13279, as amended, is further amended by striking section 2(h) and redesignating sections 2(i) and 2(j) as sections 2(h) and 2(i), respectively.

Sec. 3. White House Faith and Opportunity Initiative. (a) There is established within the Executive Office of the President the White House Faith and Opportunity Initiative (Initiative).

(i) The Initiative shall be headed by an Advisor to the White House Faith and Opportunity Initiative (Advisor). The Advisor shall be housed in the Office of Public Liaison and shall work with that office and the Domestic Policy Council, in consultation with the Centers for Faith-Based and Community Initiatives established by Executive Order 13198, Executive Order 13280, Executive Order 13342, and Executive Order 13397, to implement this order.

(ii) The Initiative shall, from time to time and consistent with applicable law, consult with and seek information from experts and various faith and community leaders from outside the Federal Government, including those from State, local, and tribal governments, identified by the Office of Public Liaison, the Domestic Policy Council, and the Centers for Faith and Opportunity Initiatives. These experts and leaders shall be identified based on their expertise in a broad range of areas in which faith-based and community organizations operate, including poverty alleviation, religious liberty, strengthening marriage and family, education, solutions for substance abuse and addiction, crime prevention and reduction, prisoner reentry, and health and humanitarian services.

(iii) The Advisor shall make recommendations to the President, through the Assistant to the President for Domestic Policy, regarding changes to policies, programs, and practices that affect the delivery of services by faith-based and community organizations.

(iv) Executive departments and agencies (agencies) that lack a Center for Faith and Opportunity Initiative shall designate a Liaison for Faith and Opportunity Initiatives as a point of contact to coordinate with the Advisor in carrying out this order.

(v) All agencies shall, to the extent permitted by law, provide such information, support, and assistance to the Initiative as it may request to develop public policy proposals.

(b) To the extent permitted by law, the Initiative shall:

(i) periodically convene meetings with the individuals described in section 3(a)(ii) of this order;

(ii) periodically convene meetings with representatives from the Centers for Faith and Opportunity Initiatives and other representatives from across agencies as the Advisor may designate;

(iii) provide recommendations regarding aspects of my Administration's policy agenda that affect faith-based and community programs and initiatives;

(iv) help integrate those aspects of my Administration's policy agenda that affect faith-based and other community organizations throughout the Federal Government;

(v) showcase innovative initiatives by faith-based and community organizations that serve and strengthen individuals, families, and communities throughout the United States;

(vi) notify the Attorney General, or his designee, of concerns raised by faith-based and community organizations about any failures of the executive branch to comply with protections of Federal law for religious liberty as outlined in the Attorney General's Memorandum of October 6, 2017 (Federal Law Protections for Religious Liberty), issued pursuant to Executive Order 13798 of May 4, 2017 (Promoting Free Speech and Religious Liberty); and

(vii) identify and propose means to reduce, in accordance with Executive Order 13798 and the Attorney General's Memorandum of October 6, 2017, burdens on the exercise of religious convictions and legislative, regulatory, and other barriers to the full and active engagement of faith-based and community organizations in Government-funded or Government-conducted activities and programs.

Sec. 4. Revocation of Executive Orders. Executive Order 13199 of January 29, 2001 (Establishment of White House Office of Faith-Based and Community Initiatives), and Executive Order 13498 of February 5, 2009 (Amendments to Executive Order 13199 and Establishment of the President's Advisory Council for Faith-Based and Neighborhood Partnerships), are hereby revoked.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 3, 2018.

[FR Doc. 2018-09895

Filed 5-7-18; 8:45 am]

Billing code 3295-F8-P